DEPARTMENT OF THE INTERIOR

Fish and Wildlife Service

Availability of a Draft Recovery Plan for the Bruneau Hot Springsnail (Pyrgulopsis bruneauensis) for Review and Comment

AGENCY: Fish and Wildlife Service, Interior.

ACTION: Notice of document availability.

SUMMARY: We, the U.S. Fish and Wildlife Service, announce the availability for public review of a draft recovery plan for the Bruneau hot springsnail (Pyrgulopsis bruneauensis). This endangered snail is native to thermal springs habitats along a 6.9-kilometer (4.3-mile) reach of the Bruneau River and its tributary Hot Creek in southwestern Idaho.

DATES: Comments on the draft recovery plan received by March 12, 2001 will be considered by the Service.

ADDRESSES: Copies of the draft recovery plan are available for inspection, by appointment, during normal business hours at the following location: Snake River Basin Office, U.S. Fish and Wildlife Service, 1387 S. Vinnell Way, Suite 368, Boise, Idaho 83709 (phone: 208/378-5243). Requests for copies of the draft recovery plan and written comments and materials regarding this plan should be addressed to Robert Ruesink, Field Supervisor, at the above address.

FOR FURTHER INFORMATION CONTACT: Jeri Wood, Fish and Wildlife Biologist, at the above address.

SUPPLEMENTATARY INFORMATION:

Background

Restoring endangered or threatened animals and plants to the point where they are again secure, self-sustaining members of their ecosystems is a primary goal of the U.S. Fish and Wildlife Service's endangered species program. To help guide the recovery effort, we are working to prepare recovery plans for most of the listed species native to the United States. Recovery plans describe actions considered necessary for the conservation of the species, establish criteria for downlisting or delisting listed species, and estimate time and cost for implementing the recovery measures needed.

The Endangered Species Act of 1973, as amended (Act) (16 U.S.C. 1531 et seq.), requires the development of recovery plans for listed species unless such a plan would not promote the conservation of a particular species. Section 4(f) of the Act requires that public notice and an opportunity for public review and comment be provided during recovery plan development. We will consider all information presented during the public comment period prior to approval of each new or revised recovery plan. Substantive technical comments will result in changes to the plans. Substantive comments regarding recovery plan implementation may not necessarily result in changes to the recovery plans, but will be forwarded to the appropriate Federal Agency or other entities so that they can take these comments into account during the course of implementing recovery actions.

The Bruneau hot springsnail (Pyrgulopsis bruneauensis) is listed as endangered. The species currently survives in approximately 89, out of 155, small, flowing geothermal springs and seeps along an approximately 6.9-kilometer (4.3-mile) reach of the Bruneau River and its tributary Hot Creek in southwestern Idaho. The species is found in a narrow elevation range of 803.7 to 815.7 meters (2,636.9 to 2,676.1 feet).

The Bruneau hot springsnail has been found in flowing geothermal springs and seeps with temperatures ranging from 15.7 to 36.9 degrees Celsius (60.3 to 98.4 degrees Fahrenheit), with the highest densities of springsnails noted at temperatures ranging from 22.8 to 36.6 degrees Celsius (73 to 98 degrees Fahrenheit). Bruneau hot springsnails are found in these habitats on the exposed surfaces of various substrates, including rocks, gravel, sand, mud, and algal film. The principal threat to this species is the reduction or elimination of its geothermal spring habitats as a result of agricultural-related groundwater withdrawal and pumping.

The objective of this plan is to provide a framework for the recovery of the Bruneau hot springsnail so that protection by the Endangered Species Act is no longer necessary. Recovery is contingent upon conserving and increasing geothermal spring habitats within the recovery area for the Bruneau hot springsnail, while acknowledging that geothermal groundwater can continue to be managed to fulfill other beneficial uses.

The Bruneau hot springsnail will be considered for downlisting to a threatened status when groundwater management activities have been implemented and monitoring indicates an increasing trend in water levels in the geothermal aquifer and occupied geothermal springs for a period of 10 years. Delisting of the species will be considered when: (1) Water levels in the geothermal aquifer have increased and stabilized at 816.96 meters (2,678.54 feet) in elevation (as measured in October at one of the Hot Creek water monitoring wells (USGS well number 03BDC1)); (2) the total number of geothermal springs discharging within the recovery area is 200 or more (this is equivalent to the 1991 level of 211 geothermal springs), distributed within the current range of the Bruneau hot springsnail; (3) more than two-thirds of available geothermal springs within the recovery area (approximately 131 springs) are occupied by stable, medium to high density populations of the Bruneau hot springsnail; and (4) groundwater levels are permanently protected against further reductions through implementation of groundwater management activities.

Public Comments Solicited

We solicit written comments on the recovery plan described. All comments received by the date specified above will be considered prior to approval of this plan.

Authority

The authority for this action is section 4(f) of the Endangered Species Act, 16 U.S.C. 1533 (f).

Dated: January 3, 2001.
Anne Badgley,
Regional Director, Region 1, U.S. Fish and Wildlife Service.

[FR Doc. 01-505 Filed 1-8-01; 8:45 am]

BILLING CODE 4310-55-P